NATIONAL AERONAUTICS AND SPACE ADMINISTRATION

[Notice 02-129]

NASA Advisory Council, Earth Science Technology Subcommittee; Meeting

AGENCY: National Aeronautics and Space Administration.

ACTION: Notice of meeting.

SUMMARY: In accordance with the Federal Advisory Committee Act, Public Law 92-463, as amended, the National Aeronautics and Space Administration announces a meeting of a NASA Advisory Council (NAC), Earth Systems Science and Applications Advisory Committee (ESSAAC).

DATES: Tuesday, November 12, 2002, 1 p.m. to 5 p.m.

ADDRESSES: Channel Inn Hotel, Suite 250, 650 Water Street SW, Washington, DC 20024.

FOR FURTHER INFORMATION CONTACT: Mr. Granville Paules, National Aeronautics and Space Administration, Washington, DC 20546, 202/358-0706.

SUPPLEMENTARY INFORMATION: The meeting will be open to the public up to the seating capacity of the room. The agenda for the meeting is as follows:

—Opening/Welcome

—Meeting Logistics

—Review of Agenda and Opening Comments

—Earth Science Enterprise Technology Strategy Update

—Science and Applications Roadmaps and Focused Technology Support

—Homeland Defense Initiatives

—Executive Summary and Actions

It is imperative that the meeting be held on this date to accommodate the scheduling priorities of the key participants. Visitors will be requested to sign a visitor's register.

June W. Edwards,
Advisory Committee Management Officer, National Aeronautics and Space Administration.

[FR Doc. 02-28332 Filed 11-6-02; 8:45 am]

BILLING CODE 7510-01-P